DEPARTMENT OF COMMERCE

International Trade Administration

[C-570-041]

Truck and Bus Tires From the People's Republic of China: Amended Final Results of Countervailing Duty Administrative Review in Part; 2020

AGENCY: Enforcement and Compliance, International Trade Administration, Department of Commerce.

SUMMARY: The U.S. Department of Commerce (Commerce) is amending the final results of the administrative review of the countervailing duty (CVD) order on truck and bus tires from the People's Republic of China (China), covering the period of review (POR) January 1, 2020, through December 31, 2020, to correct ministerial errors.

DATES: Applicable August 25, 2022.

FOR FURTHER INFORMATION CONTACT: Nicholas Czajkowski, AD/CVD Operations, Office I, Enforcement and Compliance, International Trade Administration, U.S. Department of Commerce, 1401 Constitution Avenue NW, Washington, DC 20230; telephone: (202) 482-1395.

SUPPLEMENTARY INFORMATION:

Background

Commerce published the Final Results of this review on June 30, 2022.¹ On June 30, 2022, we also received timely submitted ministerial error comments from the petitioner.² We are amending the Final Results to correct the ministerial errors raised by the petitioner.

¹ See Truck and Bus Tires from the People's Republic of China: Final Results of Countervailing Duty Administrative Review; 2020, 87 FR 39063 (June 30, 2022) (Final Results).

² See Petitioner's Letter, “Truck and Bus Tires from the People's Republic of China: Ministerial Error Comments,” dated June 30, 2022. The petitioner is United Steel, Paper and Forestry, Rubber, Manufacturing, Energy, Allied Industrial and Service Workers Union, AFL-CIO.

Legal Framework

A ministerial error, as defined in section 751(h) of the Tariff Act of 1930, as amended (the Act), includes “errors in addition, subtraction, or other arithmetic function, clerical errors resulting from inaccurate copying, duplication, or the like, and any other type of unintentional error which the administering authority considers ministerial.” ³ With respect to final results of administrative reviews, 19 CFR 351.224(e) provides that Commerce “will analyze any comments received and if appropriate, correct any ministerial error by amending . . . the final results of review . . . .”

³ See 19 CFR 351.224(f).

Ministerial Error

Commerce determines that, in accordance with section 751(h) of the Act and 19 CFR 351.224(f), it made ministerial errors in the Final Results. Pursuant to 19 CFR 351.224(e), Commerce is amending the Final Results to reflect the correction of these ministerial errors in the calculation of Qingdao Ge Rui Da Rubber Co., Ltd.'s (GRT's) countervailable subsidy rate, which changes from 16.76 percent to 17.48 percent. For a detailed discussion of Commerce's analysis, see the Ministerial Error Memorandum and Amended Analysis Memorandum.⁴ As a result of this change, the rate for the non-selected companies under review also changes from 16.85 percent to 17.51 percent.⁵

⁴ See Memorandum, “Ministerial Error Memorandum for the Final Results of the 2020 Administrative Review of the Countervailing Duty Order on Truck and Bus Tires from the People's Republic of China,” dated concurrently with, and hereby adopted by, this notice (Ministerial Error Memorandum); see also Memorandum, “2020 Administrative Review of the Countervailing Duty Order on Truck and Bus Tires from the People's Republic of China: Amended Final Results Calculations for Qingdao Ge Rui Da Rubber Co., Ltd.,” dated concurrently with this notice (Amended Analysis Memorandum).

⁵ See Memorandum, “2020 Administrative Review of the Countervailing Duty Order on Truck and Bus Tires from the People's Republic of China: Amended Final Subsidy Rate Calculations for Respondents Not Selected for Individual Examination,” dated concurrently with this notice.

Amended Final Results of Review

As a result of correcting the ministerial errors described above, Commerce determines the following net countervailable subsidy rates for the POR, January 1, 2020, through December 31, 2020:

Producer/exporter | Subsidy rate (percent ad valorem)
Prinx Chengshan (Shandong) Tire Co., Ltd.⁶ | 17.85
Qingdao Ge Rui Da Rubber Co., Ltd.⁷ | 17.48
Review-Specific Average Rate Applicable to the Following Companies
Jiangsu General Science Technology Co., Ltd | 17.51
Jiangsu Hankook Tire Co., Ltd | 17.51
Qingdao Awesome International Trade Co., Ltd | 17.51
Qingdao Doublestar Tire Industrial Co., Ltd | 17.51
Shandong Haohua Tire Co., Ltd | 17.51
Shandong Huasheng Rubber Co., Ltd | 17.51
Shandong Kaixuan Rubber Co., Ltd | 17.51
Triangle Tyre Co., Ltd | 17.51

Disclosure

⁶ Cross-owned affiliates are Chengshan Group Co., Ltd.; Shanghai Chengzhan Information and Technology Center; Prinx Chengshan (Qingdao) Industrial Research & Design Co., Ltd.; and Shandong Prinx Chengshan Tire Technology Research Co., Ltd.

⁷ Cross-owned affiliates are Cooper Tire (China) Investment Co. Ltd.; Cooper Tire Asia-Pacific (Shanghai) Trading Co., Ltd.; Cooper (Kunshan) Tire Co., Ltd.; and Qingdao Yiyuan Investment Co., Ltd.

We intend to disclose the calculations performed for these amended final results in accordance with 19 CFR 351.224(b).

Assessment

Pursuant to section 751(a)(2)(C) of the Act and 19 CFR 351.212(b)(1), Commerce shall determine and U.S. Customs and Border Protections (CBP) shall assess, countervailing duties on all appropriate entries of subject merchandise in accordance with the amended final results of this review. We will calculate importer-specific assessment rate on the basis of the total amount of countervailing duties calculated for each importer's examined sales and the total entered values of the sales in accordance with 19 CFR 351.212.(b)(1).

We intend to issue liquidation instructions to CBP 35 days after publication of the amended final results of this review.

Cash Deposit Requirements

In accordance with section 751(a)(2)(C) of the Act, Commerce also intends to instruct CBP to collect cash deposits of estimated countervailing duties in the amounts shown for the companies subject to this review. For all non-reviewed companies, CBP will continue to collect cash deposits of estimated countervailing duties at the most recent company specific or all-others rate applicable to the company, as appropriate. These cash deposits, effective upon publication of these amended final results, shall remain in effect until further notice.

Administrative Protective Order

This notice serves as a final reminder to parties subject to an administrative protective order (APO) of their responsibility concerning the destruction of proprietary information disclosed under APO in accordance with 19 CFR 351.305(a)(3). Timely written notification of return or destruction of APO materials or conversion to judicial protective order is hereby requested. Failure to comply with the regulations and the terms of an APO is sanctionable violation.

Notification to Interested Parties

We are issuing and publishing these amended final results of review in accordance with sections 751(h) and 777(i) of the Act and 19 CFR 351.224(e).

Dated: August 19, 2022.
Lisa W. Wang,
Assistant Secretary for Enforcement and Compliance.

[FR Doc. 2022-18329 Filed 8-24-22; 8:45 am]

BILLING CODE 3510-DS-P